DEPARTMENT OF THE INTERIOR

Bureau of Land Management

[LLCAD01000 L12100000.MD0000 212L1109AF]

Notice of Public Meetings of the California Desert District Advisory Council

AGENCY: Bureau of Land Management, Interior.

ACTION: Notice of public meetings.

SUMMARY: In accordance with the Federal Land Policy and Management Act and the Federal Advisory Committee Act, the U.S. Department of the Interior, Bureau of Land Management's (BLM) California Desert District Desert Advisory Council (DAC) will meet as follows.

DATES: The DAC will hold a virtual business meeting on Saturday, August 7, 2021, from 9 a.m. to 4:30 p.m. Public comments will be accepted at 3:15 p.m.

The DAC will conduct a field tour on Friday, October 1, 2021, from 9 a.m. to 4 p.m., followed by a business meeting on Saturday, October 2, 2021, from 9 a.m. to 4:30 p.m., with public comments accepted at 3:15 p.m.

The DAC will conduct a field tour on Friday, February 11, 2022, from 9 a.m. to 4 p.m., followed by a business meeting on Saturday, February 12, 2022, from 9 a.m. to 4:30 p.m., with public comments accepted at 3:15 p.m.

If Centers for Disease Control (CDC) COVID-19 guidelines preclude on-site meetings, the previously referenced field tour days will be cancelled, and the October 2, 2021, and February 12, 2022, business meetings will be held virtually via Zoom, both from 9 a.m. to 4:30 p.m.

ADDRESSES: The August 7 meeting will be held virtually via Zoom. The meeting link and participation instructions will be made available to the public via news media, social media, the BLM California website https://go.usa.gov/xH8Cw, and through personal contact 2 weeks prior to the meeting. The October 1 field tour will include visits to public land sites managed by the El Centro Field Office and the October 2 business meeting will be held at the Fairfield Inn & Suites, located at 503 E Danenberg Drive in El Centro, CA 92243. The February 11, 2022, field tour will include visits to public land sites managed by the Barstow Field Office and the February 12 business meeting will be held at the Hampton Inn and Suites, located at 2710 Lenwood Road, in Barstow, CA 92311.

Written comments pertaining to any of the above meetings can be sent to the BLM California Desert District Office, 1201 Bird Center Drive, Palm Springs, CA 92262, Attention: Michelle Van Der Linden/DAC meeting comments.

FOR FURTHER INFORMATION CONTACT: Public Affairs Officer Michelle Van Der Linden, telephone: (951) 697-5217; email: mvanderlinden@blm.gov. Persons who use a telecommunications device for the deaf (TDD) may call the Federal Relay Service (FRS) at (800) 877-8339 to contact Ms. Van Der Linden during normal business hours. The FRS is available 24 hours a day, 7 days a week, to leave a message. You will receive a reply during normal business hours.

SUPPLEMENTARY INFORMATION: The DAC advises the Secretary of the Interior, through the BLM, on a variety of planning and management issues associated with public land management on BLM-managed public lands in southern California. Topics for these meetings are as follows: On August 7, 2021, the council will receive updates on Desert Renewable Energy Conservation Plan implementation, updates on the desert tortoise and public land filming permits, a recap of the off-highway vehicle season, and overviews from the District and Field offices as well as from fire and fuels operations. On October 1, 2021, the council will tour public land sites managed by the El Centro Field Office and on October 2, 2021, the council will receive updates and discuss special recreation permits, burro gathers, the Devils Canyon seasonal access, and Desert Spring Study. The members will also receive overviews from the District and Field offices as well as from fire and fuels operations. On February 11, 2022, the council will tour public land sites managed by the Barstow Field Office and on February 12, 2022, the council will receive updates and discuss renewable energy projects, mining projects, monument planning, and law enforcement coordination. The members will also receive overviews from the District and Field offices as well as from fire and fuels operations, and followed by an off-highway vehicle update.

All meetings are open to the public. Each formal council meeting will have time allocated for public comments. Depending on the number of persons wishing to speak and the time available, the amount of time for oral comments may be limited. Written public comments may be sent to the BLM California Desert District Office listed in the ADDRESSES section of this notice. All comments received will be provided to the DAC.

Public Disclosure of Comments: Before including your address, phone number, email address, or other personal identifying information in your comment, you should be aware that your entire comment—including your personal identifying information—may be made publicly available at any time. While you can ask in your comment to withhold your personal identifying information from public review, we cannot guarantee that we will be able to do so.

Members of the public are welcome on field tours but must provide their own transportation and meals. Individuals who plan to attend and need special assistance, such as sign language interpretation and other reasonable accommodations, should contact the BLM (see FOR FURTHER INFORMATION CONTACT). Meetings and field tours will follow current CDC COVID-19 guidance regarding social distancing and wearing of masks.

Detailed meeting minutes for the DAC meetings will be maintained by the BLM California Desert District Office. Minutes will also be posted to the BLM California DAC web page.

(Authority: 43 CFR 1784.4-2)

Erica St. Michel,
Deputy State Director, Communications.

[FR Doc. 2021-13351 Filed 6-23-21; 8:45 am]

BILLING CODE 4310-40-P